DEPARTMENT OF THE INTERIOR

National Park Service

[NPS-NCR-MAMC-36915; PPNCNACEN0, PPMPSAS1Z.Y00000]

Mary McLeod Bethune Council House National Historic Site Advisory Commission Notice of Public Meeting

AGENCY: National Park Service, Interior.

ACTION: Meeting notice.

SUMMARY: In accordance with the Federal Advisory Committee Act of 1972, the National Park Service (NPS) is hereby giving notice that the Mary McLeod Bethune Council House National Historic Site Advisory Commission (Commission) will meet as indicated below.

DATES: The in-person meeting will take place from 10 a.m. to 5 p.m. or until business is completed on Wednesday, January 24, 2024, and from 9 a.m. to 3 p.m. on Thursday, January 25, 2024 (eastern).

ADDRESSES: The meeting will be held in the National Capital Parks-East Headquarters, 1900 Anacostia Drive SE, Washington, DC 20020.

FOR FURTHER INFORMATION CONTACT: Anyone interested in attending should contact Tara Morrison, Superintendent and Designated Federal Officer, National Capital Parks-East, 1900 Anacostia Drive SE, Washington, DC 20020, by telephone (771) 208-1450, or by email nace_superintendent@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Commission is established by section 4 of Public Law 102-211 (54 U.S.C. 320101 formerly 16 U.S.C. 461 note). The purpose of the Commission is to fully participate in an advisory capacity with the Secretary of the Interior in the development of a General Management Plan for the historic site. The Commission will also, as often as necessary, but at least semiannually, meet and consult with the Secretary on matters relating to the management and development of the historic site.

Purpose of the Meeting: The purpose of the meeting is to discuss the following:

• Welcome and Introductions

• History of the Mary McLeod Bethune National Historic Site Advisory Commission

• Review and the Federal Advisory Commission Act (5 U.S.C. Ch. 10)

• Site Update and Improvements—Past, Present & Future

• How an Advisory Commission Functions—Election of Chair and Vice Chair

• NPS Expectations/Priorities for Advisory Commission

• Advisory Commission Expectations

The proposed agenda may change to accommodate commission business. The final agenda for this meeting will be provided on the Park website at https://www.nps.gov/mamc/index.htm. Interested persons may present, either orally or through written comments, information for the Commission to consider during the public meeting. Written comments will be accepted prior to, during, or after the meeting. Members of the public may submit written comments by mailing them to the person listed in the FOR FURTHER INFORMATION CONTACT section.

Due to time constraints during the meeting, the Commission is not able to read written public comments submitted into the record. Individuals or groups requesting to make oral comments at the public Commission meeting will be limited to no more than three minutes per speaker. All comments will be made part of the public record and will be electronically distributed to all Commission members. Detailed minutes of the meeting will be available for public inspection within 90 days of the meeting.

Meeting Accessibility/Special Accommodations: The meeting is open to the public. Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Ch. 10.

Alma Ripps,
Chief, Office of Policy.

[FR Doc. 2023-28709 Filed 12-27-23; 8:45 am]

BILLING CODE 4312-52-P